DEPARTMENT OF ENERGY

Federal Energy Regulatory Commission

[Docket No. CP10-447-000]

Sabine Pipe Line LLC; Notice of Request Under Blanket Authorization

June 8, 2010.

Take notice that on June 1, 2010, Sabine Pipe Line LLC (Sabine), 4800 Fournace Place, Bellaire, Texas 77401, filed in Docket No. CP10-447-000, a prior notice request pursuant to sections 157.205 and 157.216 of the Federal Energy Regulatory Commission's regulations under the Natural Gas Act for authorization to abandon, in place, certain compression facilities, located near Lake Charles, in Calcasieu Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Sabine proposes to abandon, in place, the Lake Charles Compressor Facilities, which include two natural gas-driven compressor units totaling 2,464 horsepower. Sabine states that for the past several years, the Lake Charles Compressor Facilities have not been necessary to provide transportation services on Sabine's interstate pipeline system, and have been idle and have not operated since 2000. Sabine avers that current customers will not be affected by the proposed abandonment.

Any questions regarding the application should be directed to Jeffrey L. Kirk, Regulatory Specialist, Chevron Pipe Line Company, 4800 Fournace Place, Bellaire, Texas 77401 at (713) 432-6753.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-14301 Filed 6-14-10; 8:45 am]

BILLING CODE 6717-01-P